DEPARTMENT OF DEFENSE

Office of the Secretary

[Docket ID: DoD-2015-OS-0024]

Privacy Act of 1974; System of Records

AGENCY: Office of the Secretary of Defense, DoD.

ACTION: Notice to alter a System of Records.

SUMMARY: The Office of the Secretary of Defense proposes to alter a system of records, DHRA 07, entitled “National Language Service Corps Pilot Records”, in its inventory of record systems subject to the Privacy Act of 1974, as amended. This system will provide a single enterprise-wide automated Human Resource information system, DCPDS, with a standard configuration for personnel action processing and data retrieval for the DoD civilian workforce.

DATES: Comments will be accepted on or before April 13, 2015. This proposed action will be effective the date following the end of the comment period unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site at http://dpcld.defense.gov/. The proposed system report, as required by U.S.C. 552a(r) of the Privacy Act of 1974, as amended, was submitted on May 12, 2014 to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 9, 2015.
Aaron Siegel,
Alternate OSD Federal Register Liaison Officer, Department of Defense.

DHRA 07

System name:

National Language Service Corps Pilot Records (September 11, 2008, 73 FR 52839).

Changes:

* * * * *

System name:

Delete entry and replace with “National Language Service Corps (NLSC) Records.”

System location:

Delete entry and replace with “National Language Service Corps, 1101 Wilson Boulevard, Suite 1200, Arlington, VA 22209-2248.”

Categories of individuals covered by the system:

Delete entry and replace with “U.S. citizens who apply to become or are members of the NLSC.”

Categories of records in the system:

Delete entry and replace with “Full name, other names used, citizenship, home address, email address, home and mobile telephone numbers, age verification of 18 years, education level, U.S. citizen, security clearance, employment information (e.g., federal employee, political appointee, armed forces), foreign language(s) spoken, foreign language proficiency levels, origin of foreign language(s) spoken, English proficiency levels, and NLSC-assigned control number.”

Authority for maintenance of the system:

Delete entry and replace with “5 U.S.C. 301, Departmental Regulations; 10 U.S.C. 131, Office of the Secretary of Defense; DoD Directive 5124.02, Under Secretary of Defense for Personnel and Readiness (USD(P&R)); and 50 U.S.C. 1913, National Language Service Corps.”

Purpose(s):

Delete entry and replace with “To allow U.S. citizens with language skills to self-identify their skills for the purpose of temporary employment on an intermittent work schedule or service opportunities in support of DoD or another department or agency of the United States. The information will be used to determine applicants' eligibility for NLSC membership and to identify and contact NLSC members.”

Routine uses of records maintained in the system, including categories of users and the purposes of such uses:

Delete entry and replace with “In addition to those disclosures generally permitted under 5 U.S.C. 552a(b) of the Privacy Act of 1974, as amended, the records contained herein may be disclosed outside the DoD as a routine use pursuant to 5 U.S.C. 552a(b)(3) as follows:

To another department or agency of the United States in need of temporary short-term foreign language services, where government employees are required or desired.

The DoD Blanket Routine Uses set forth at the beginning of the Office of the Secretary of Defense compilation of systems of records notices may apply to this system.”

* * * * *

Retrievability:

Delete entry and replace with “NLSC-assigned control number, full name, and home address.”

Safeguards:

Delete entry and replace with “Paper records are stored in locked file cabinets, in a locked office in a building with 24 hour guards and closed circuit television. Access to information, whether in paper or electronic records, is restricted to NLSC employees, authorized contractors, system developers, and administrators who require the records in the performance of their official duties. Access to personal information stored electronically is further restricted by the use of usernames and passwords that are changed periodically. Physical entry is restricted by the use of locks, guards at the facility hosting the web portal, and administrative procedures. The concept of identification and authentication “layered protection” is used to keep unauthorized users out of the NLSC Records. All personnel granted access must participate in a security training and awareness program. This program consists of both initial security training and annual refresher training.”

Retention and disposal:

Delete entry and replace with “Records are destroyed four years after participant ends participation.”

System manager(s) and address:

Delete entry and replace with “Director, National Language Service Corps, 1101 Wilson Boulevard, Suite 1200, Arlington, VA 22209-2248.”

Notification procedure:

Delete entry and replace with “Individuals seeking to determine whether information about themselves is contained in this system should address written inquiries to the Director, National Language Service Corps, 1101 Wilson Boulevard, Suite 1200, Arlington, VA 22209-2248.

Signed, written requests should contain the full name, current home address, and the name and number of this system of records notice.”

Record access procedures:

Delete entry and replace with “Individuals seeking access to records about themselves contained in this system of records should address written inquiries to the Office of the Secretary of Defense (OSD)/Joint Staff Freedom of Information Act Requester Service Center, Office of Freedom of Information, 1155 Defense Pentagon, Washington, DC 20301-1155.

Signed, written requests should contain the individual's full name, current home address, and the name and number of this system of records notice.”

* * * * *

[FR Doc. 2015-05676 Filed 3-12-15; 8:45 am]

BILLING CODE 5001-06-P